DEPARTMENT OF HEALTH AND HUMAN SERVICES

Centers for Disease Control and Prevention

[Program Announcement 02029]

Cooperative Agreement for the Support of a National Folic Acid Promotion Program Notice of Availability of Funds

A. Purpose

The Centers for Disease Control and Prevention (CDC) announces the availability of Fiscal Year (FY) 2002 funds for a cooperative agreement program for the support of a National Folic Acid Promotion Program. This program addresses the “Healthy People 2010” focus area of Maternal, Infant, and Child Health.

The purpose of this program is to support the development and implementation of a national program to promote the use of vitamin folic acid for the prevention of spina bifida and other neural tube defects. This program will improve the knowledge and awareness of health care providers, public and private health organizations, and women of reproductive age about reducing birth defects by promoting the use of folic acid.

B. Eligible Applicants

Applications may be submitted by public and private nonprofit organizations and by governments and their agencies; that is, universities, colleges, research institutions, hospitals, other public and private nonprofit organizations, State and local governments or their bona fide agents, and federally recognized Indian tribal governments, Indian tribes, or Indian tribal organizations.

To be eligible, applicants must demonstrate involvement in a national organization which is actively participating in the promotion of folic acid to prevent birth defects. This should be demonstrated in the form of a letter from the identified National Organization's/Council's Executive Officer and should be placed immediately following the face page of the application.

Applications that do not include the above information will be determined as non-responsive and returned without review.

C. Availability of Funds

Approximately $200,000 will be available to fund one award. It is expected that this award will begin on or about June 1, 2002, and will be made for a 12-month budget period within a project period of up to five years. The funding estimate may change.

Continuation awards within an approved project period will be made on the basis of satisfactory progress as evidenced by required reports and the availability of funds.

D. Program Requirements

To achieve the purpose of this program, the recipient will be responsible for the activities under 1. (Recipient Activities) and CDC will be responsible for activities listed under 2. (CDC Activities).

1. Recipient Activities

a. Provide at least one full-time manager and other staff support needed to carry out a national agenda.

b. Develop a national program to reach women of reproductive age and healthcare providers who serve them.

c. Provide a mechanism which allows the public to access the latest developments in research and practice related to the use of folic acid to prevent birth defects.

d. Provide a customized service whereby state and local programs, agencies, and professionals may receive packets, newsletters, bibliographies, policy papers, and fact sheets.

e. Convene meetings of council partners to share information about materials, strategies, and model programs to promote the use of folic acid to prevent birth defects.

f. Participate in national, state, or local meetings and conferences on behalf of the council.

g. Establish and implement methods for evaluating the impact of the programs and activities to increase consumption of folic acid.

2. CDC Activities

a. Provide scientific collaboration for appropriate aspects of the activities, including new scientific data on benefits of folic acid, information on rates of neural tube birth defects, and prevention strategies.

b. Assist in development and review of relevant information made available to federal, state, and local health agencies, health care providers, and volunteer organizations.

c. In conjunction with the recipient, evaluate the impact of the programs and activities to increase consumption of folic acid.

d. Participate in all meetings convened by the recipient.

E. Application Content

Use the information in the Program Requirements, Other Requirements, and Evaluation Criteria sections to develop the application content. Applications will be evaluated on the criteria listed, so it is important to follow them in laying out the program plan. The application should be no more than 20 double-spaced pages, printed on one side, with one-inch margins, and 12 point font, not including attachments.

1. Organization Profile

a. Provide a narrative, including background information and information on the applicant organization, evidence of relevant experience in coordinating activities among constituents, and a clear understanding of the purpose of the project.

b. Include details of past experiences working with the target populations. Provide information on organizational capability to conduct proposed project activities.

c. Describe qualified and experienced personnel who are available to work on the project and provide evidence of the organizational structure that is proposed to meet the requirements of the project. Include an organizational chart of the applicant organization specifying the location and staffing plan for the proposed project.

2. Program Plan

a. Include goals and measurable impact and process objectives that are specific, realistic, measurable, and time-phased. Include an explanation of how the objectives contribute to the purposes of the request for assistance and evidence that demonstrates the potential effectiveness of the proposed objectives.

b. Detail an action plan, including a timeline of activities and personnel responsible for implementing each segment of the plan.

c. Prepare a plan to include impact and process evaluation utilizing both quantitative and qualitative measures for the achievement of program objectives to determine the impact of the program promoted by the awardee, and monitor the implementation of proposed activities. Indicate how the quality of services provided will be ensured.

d. Provide a plan for obtaining additional resources from non-Federal sources to supplement program activities and ensure continuation of the activities after the end of the project period.

3. Collaboration Activities

Provide evidence of collaborative efforts with organizations involved with promoting the health of children and/or preventing birth defects.

4. Budget Information

a. Provide a detailed budget with justification. The budget proposal should be consistent with the purpose and program plan of the proposed project.

b. Provide, if known at the time of application, the name of any contractor, method of selection, budget etc.

F. Submission and Deadline

Letter of Intent (LOI)

On or before February 28, 2002, submit the LOI to the official noted for program technical assistance identified in the “Where to Obtain Additional Information” of this announcement.

Application

Submit the original and two copies of the application PHS 5161-1, (OMB Number 0937-0189). Forms are in the application kit or at Internet address: www.cdc.gov/od/pgo/forminfo.htm.

On or before March 29, 2002, submit the application to the Grants Management Specialist identified in the “Where to Obtain Additional Information” section of this announcement.

Deadline: Applications shall be considered as meeting the deadline if they are either:

1. Received on or before the deadline date; or

2. Sent on or before the deadline date and received in time for orderly processing. (Applicants must request a legibly dated U.S. Postal Service postmark or obtain a legibly dated receipt from a commercial carrier or U.S. Postal Service. Private metered postmarks shall not be acceptable as proof of timely mailing.)

Late Applications: Applications which do not meet the criteria in 1. or 2. above are considered late applications, will not be considered, and will be returned to the applicant.

G. Evaluation Criteria

Each application will be evaluated individually against the following criteria by an independent review group appointed by CDC:

1. Background and Need (15 points)

The extent to which the applicant understands the importance of promoting the use of the vitamin folic acid for the prevention of neural tube birth defects and proposes a plan to address the issues of an educational campaign.

2. Capability (25 points)

The extent to which the applicant appears likely to succeed in implementing proposed activities as measured by relevant past experience, a sound management structure, and staff qualifications, including the appropriateness of their proposed roles and responsibilities and job descriptions.

3. Program Plan (30 points)

The feasibility and appropriateness of the applicant's action plan to provide staffing, convene meetings, facilitate communication, and evaluate impact of program.

4. Coordination and Collaboration (20 points)

The extent to which the applicant proposes to coordinate the activities of the National Council on Folic Acid with state and local folic acid programs, state and local coalitions, provider organizations, and other appropriate agencies.

5. Evaluation Plan (10 points)

The extent to which the applicant proposes to evaluate the impact of the proposed plan, including impact and process evaluation, as well as quantitative and qualitative measures for achievement of program objectives, determining the health effect on the population, and monitoring the implementation of proposed activities.

6. Budget and Justification (Not Scored)

The extent to which the proposed budget is adequately justified, reasonable, and consistent with proposed project activities and this program announcement.

H. Other Requirements

Technical Reporting Requirements

Provide CDC with the original plus two copies of:

1. Semi-annual reports should include:

a. A brief project description.

b. A comparison of the actual accomplishments to the goals and objectives established for the period.

c. In the case that established goals and objectives may not be accomplished or are delayed, documentation of both the reason for the deviation and the anticipated corrective action or a request for deletion of the activity from the project.

d. Other pertinent information, including preliminary findings from the analysis of available data.

2. Financial status report, no more than 90 days after the end of the budget period.

3. Final financial report and performance report, no more than 90 days after the end of the project period.

Send all reports to the Grants Management Specialist identified in the “Where to Obtain Additional Information” section of this announcement.

The following additional requirements are applicable to this program. For a complete description of each, see Appendix I in the application kit.

AR-9 Paperwork Reduction Act

AR-10 Smoke-Free Workplace

AR-11 Healthy People 2010

AR-12 Lobbying Restriction

I. Authority and Catalog of Federal Domestic Assistance Number

This program is authorized under section 301(a), 317(c) and 317(J) of the Public Health Service Act, [42 U.S.C. 241] as amended. The Catalog of Federal Domestic Assistance number is 93.184.

J. Where To Obtain Additional Information

This and other CDC announcements can be found on the CDC home page Internet address— http://www.cdc.gov Click on “Funding” then “Grants and Cooperative Agreement”.

To receive additional written information and to request an application kit, call 1-888-GRANTS4 (1-888-472-6874). You will be asked to leave your name and address and will be instructed to identify the program announcement number of interest.

If you have questions after reviewing the contents of all the documents, business management technical assistance may be obtained from: Sheryl Heard, Grants Management Specialist, Acquisition and Assistance Branch B, Procurement and Grants Office, Centers for Disease Control and Prevention (CDC), Announcement 02029, 2920 Brandywine Road, Room 3000, Atlanta, Georgia 30341-4146, Telephone (770) 488-2723, Email: slh3@cdc.gov.

For program technical assistance, contact: Charlotte Dickinson, Centers for Disease Control and Prevention (CDC), 4770 Buford Highway, Mailstop F-34, Atlanta, Georgia 30341, Telephone: (770) 488-7155, Email: cmd1@cdc.gov.

Dated: February 1, 2002.
Robert L. Williams,
Chief, Acquisition and Assistance Branch, Procurement and Grants Office, Centers for Disease Control and Prevention—(CDC).

[FR Doc. 02-2937 Filed 2-6-02; 8:45 am]

BILLING CODE 4163-18-P